DEPARTMENT OF THE INTERIOR

National Park Service

[NPS-WASO-NAGPRA-NPS0030519; PPWOCRADN0-PCU00RP14.R50000]

Notice of Inventory Completion: Hastings Museum, Hastings, NE

AGENCY: National Park Service, Interior.

ACTION: Notice.

SUMMARY: The Hastings Museum has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Hastings Museum. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Hastings Museum at the address in this notice by September 8, 2020.

ADDRESSES: Teresa Kreutzer-Hodson, Hastings Museum, 1330 North Burlington Avenue, Hastings, NE 68901, telephone (402) 461-2399, email tkreutzerhodson@hastingsmuseum.org.

SUPPLEMENTARY INFORMATION: Notice is here given in accordance with the Native American Graves Protection and Repatriation Act (NAGPRA), 25 U.S.C. 3003, of the completion of an inventory of human remains under the control of the Hastings Museum, Hastings, NE. The human remains were removed from Bonita, Morehouse Parish, LA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Hastings Museum professional staff in consultation with representatives of The Choctaw Nation of Oklahoma.

History and Description of the Remains

Sometime prior to 1926, human remains representing, at minimum, one individual were removed from Bonita in Morehouse Parish, LA. The human remains were donated to the Hastings Museum by Bonita resident Thomas Harp, and cataloged between 1926 and 1931 (01504). No known individual was identified. No associated funerary objects are present.

Hasting Museum records state that these human remains were excavated from the upper layer of soil and attributes them to the Choctaw. The occipital exhibits cranial remodeling, which is known to have been practiced by the Choctaw.

Sometime prior to 1926, human remains representing, at minimum, one individual were removed from a burial mound at or near Bonita, LA. According to Hasting Museum records, during the course of road construction, the human remains were discovered 10 feet below the base of the mound. (The records also state that pottery associated with the human remains was removed, but it was not given to the Hastings Museum and its whereabouts are unknown.) The human remains were donated to the Hastings Museum by Bonita resident Thomas Harp, and cataloged between 1926 and 1931 (02136). No known individual was identified. No associated funerary objects are present.

Early records identify this individual as Choctaw. The human remains exhibit extensive asymmetrical cranial remodeling, which is known to have been practiced by the Choctaw (the type of remodeling cannot be determined due to post-mortem damage).

Determinations Made by the Hastings Museum

Officials of the Hastings Museum have determined that:

• Pursuant to 25 U.S.C. 3001(9), the human remains described in this notice represent the physical remains of two individuals of Native American ancestry.

• Pursuant to 25 U.S.C. 3001(2), there is a relationship of shared group identity that can be reasonably traced between the Native American human remains and The Choctaw Nation of Oklahoma.

Additional Requestors and Disposition

Lineal descendants or representatives of any Indian Tribe or Native Hawaiian organization not identified in this notice that wish to request transfer of control of these human remains should submit a written request with information in support of the request to Teresa Kreutzer-Hodson, Hastings Museum, 1330 North Burlington Avenue, Hastings, NE 68901, telephone (402) 461-2399, email tkreutzerhodson@hastingsmuseum.org, by September 8, 2020. After that date, if no additional requestors have come forward, transfer of control of the human remains to The Choctaw Nation of Oklahoma may proceed.

The Hastings Museum is responsible for notifying The Choctaw Nation of Oklahoma that this notice has been published.

Dated: June 25, 2020.
Melanie O'Brien,
Manager, National NAGPRA Program.

[FR Doc. 2020-17175 Filed 8-5-20; 8:45 am]

BILLING CODE 4312-52-P